DEPARTMENT OF COMMERCE

National Oceanic and Atmospheric Administration

Coastal Zone Management: Federal Consistency Appeal by Ricardo Ramirez by an Objection by the Puerto Rico Planning Board

ACTION: Dismissal of appeal.

By letter dated April 6, 1999, Ricardo Ramirez (Appellant) filed with the Secretary of Commerce a notice of appeal pursuant to section 307(c)(3)(A) of the Coastal Zone Management Act. The appeal is taken from an objection by the Puerto Rico Planning Board (PRPB) to the Appellant's consistency certification for an Army Corps of Engineers permit to reconstruct a stilt house of 47′ by 42′.

The CZMA provides that a timely objection by a state (including Puerto Rico) to a consistency certification precludes any Federal agency from issuing licenses or permits for the activity unless the Secretary finds that the activity is either “consistent with the objectives of the CZMA (Ground I) or “necessary in the interest of national security” (Ground II). Section 307(c)(3)(A). To make such a determination, the Secretary must find that the project satisfies the requirements of 15 CFR 930.121 or 930.122. Generally, the Appellant has the burden of submitting evidence in support of his appeal and the burden of persuasion under both Grounds I and II.

The Federal regulations implementing the CZMA provide, in part, that the Secretary may dismiss an appeal for failure of the Appellant to base the appeal on Grounds I or II.

In light of Appellant's failure to describe the way in which the proposed activity is either (1) consistent with the objectives or purposes of the CZMA or (2) necessary in the interest of national security, the appeal has been dismissed. The Appellant is barred from filing another appeal from the Puerto Rico Planning Board's objection to his original consistency certification. This is a final agency action for purposes of judicial review.

FOR ADDITIONAL INFORMATION CONTACT: Ms. Mary Gray Holt, Attorney-Adviser, Office of the Assistant General Counsel for Ocean Services, National Oceanic and Atmospheric Administration, U.S. Department of Commerce, 1305 East-West Highway, Room 6111, Silver Spring, MD 20910, 301-713-2967.

[Federal Domestic Assistance Catalog No. 11.419 Coastal Zone Management Program Assistance]

Dated: November 2, 2000.
Craig O'Connor,
Acting General Counsel.

[FR Doc. 00-29388 Filed 11-15-00; 8:45 am]

BILLING CODE 3510-08-M